DEPARTMENT OF JUSTICE

Federal Bureau of Investigation

Agency Information Collection Activities: Proposed Collection; Comments Requested

ACTION: Notice of Information Collection Under Review; Reinstatement, with change, of a previously approved collection for which approval has expired; Violent Criminal Apprehension Program (VICAP) Crime Analysis Report.

The Department of Justice (DOJ), Federal Bureau of Investigation (FBI) has submitted the following information collection request to the Office of Management and Budget (OMB) for review and approval in accordance with the procedures of the Paperwork Reduction Act of 1995. The proposed information collection is published to obtain comments from the public and affected agencies.

Public comments are encouraged and will be accepted until September 24, 2001. We request written comments and suggestions from the public and affected agencies concerning the proposed collection of information. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

Minimize the burden of the collection of information on those who are to respond, including through the use of appropriate automated, electronic, mechanical, or other technological collection techniques or other forms of information technology, e.g., permitting electronic submission of responses.

Comments and/or suggestions regarding the items(s) contained in this notice, especially regarding the estimated public burden and associated response time should be directed to Unit Chief Thomas C. Knowles, Supervisory Special Agent, VICAP, FBI Academy, Quantico, VA 22135.

Overview of this information collection:

(1) Type of Information Collection: Reinstatement, with change, of a previously approved collection for which approval has expired.

(2) Title of the Form/Collection: Violent Criminal Apprehension Program (VICAP) Crime Analysis Report.

(3) Agency form number, if any, and the applicable component of the Department of Justice sponsoring the collection: FD-676. Department of Justice, Federal Bureau of Investigation, Violent Criminal Apprehension Program Unit.

(4) Affected public who will be asked or required to respond, as well as brief abstract: Primary: State, Local, or Tribal Government. Brief Abstract: Collects data at crime scenes (e.g., unsolved murders) for analysis by VICAP staff of the FBI. Law enforcement agencies reporting similar pattern crimes will be provided information to initiate a coordinated multi-agency investigation to expedite identification and apprehension of violent criminal offenders (e.g., serial murderers).

(5) An estimate of the total number of respondents and the amount of time estimated for an average respondent to respond: 10,000 respondents at an average of one hour per response.

(6) An estimate of the annual total public burden (in hours) associated with the collection: 10,000 total burden hours.

If additional information is required contact: Mr. Robert B. Briggs, Clearance Officer, United States Department of Justice, Information Management and Security Staff, Justice Management Division, 1331 Pennsylvania Avenue, NW., Suite 1220, Washington, DC 20530.

Dated: July 20, 2001.
Robert B. Briggs,
Department Clearance Officer, Department of Justice.

[FR Doc. 01-18579 Filed 7-24-01; 8:45 am]

BILLING CODE 4410-02-M